DEPARTMENT OF HEALTH AND HUMAN SERVICES

Administration for Children and Families

Submission for OMB Review; Comment Request

Title: 45 CFR 1309 Head Start Facilities Purchase.

OMB No.: 0970-0193.

Description: This rule contains the administrative requirements applicable to Head Start grantees when applying for funding to purchase Head Start program facilities. The rule ensures that standard business practices are applied when acquiring real property to protect the federal interest in properties purchased with public funds. The rule further ensures compliance with all other federal statutes applicable to the expenditure of public funds when purchasing real property.

Respondents: Head Start and Early Head Start grantees applying to purchase program facilities.

Annual Burden Estimates
Instrument | Number of respondents | Number of responses per respondent | Average burden hours per response | Total burden hours
Regulation | 200 | 1 | 41 | 8,200
Estimated Total Annual Burden Hours | 8,200

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: November 25, 2002.
Robert Sargis,
Reports Clearance Officer.

[FR Doc. 02-30645 Filed 12-2-02; 8:45 am]

BILLING CODE 4184-01-M